DEPARTMENT OF EDUCATION

[CFDA Nos. 84.038, 84.033, and 84.007]

Federal Student Aid; Federal Perkins Loan, Federal Work-Study, and Federal Supplemental Educational Opportunity Grant Programs

AGENCY: Department of Education.

ACTION: Notice of the closing date for institutions to file an Application for Approval to Participate in Federal Student Financial Aid Programs for the 2003-2004 award year; to participate in the Federal Perkins Loan, Federal Work-Study, and Federal Supplemental Educational Opportunity Grant programs (known collectively as the campus-based programs).

SUMMARY: We invite currently non-participating institutions of higher education who filed a Fiscal Operations Report and Application to Participate (FISAP) (ED Form 646-1), to submit to the U.S. Department of Education (Department) an Application for Approval to participate in Federal Student Financial Aid Programs. In order to participate in one or more of the campus-based programs for the 2003-2004 award year, non-participating institutions must submit an Application for Approval to Participate in Federal Student Financial Aid Programs and all required supporting documents for an eligibility and certification determination by the Department.

The campus-based programs are authorized by title IV of the Higher Education Act of 1965, as amended (HEA). The 2003-2004 award year is July 1, 2003, through June 30, 2004.

Closing Date: To participate in the campus-based programs in the 2003-2004 award year, a currently non-participating institution must electronically submit its Application for Approval to Participate in Federal Student Financial Aid Programs on or before February 17, 2003. (ED Form E40-34P, OMB# 1845-0012).

ADDRESSES: Applications. The Department no longer accepts paper applications in these programs. An eligible institution must submit an electronic application to Case Management and Oversight through the ED website: www.eligcert.ed.gov.

Required Supporting Documents. The applicant must submit required supporting documents by mail, addressed to the U.S. Department of Education, Case Management and Oversight, Data Management and Analysis, Document Receipt and Control Center, 830 First Street, NE., Room 71I1, Washington, DC 20002-5402.

In the case of required supporting documents, the applicant must show proof of mailing consisting of one of the following: (1) A legibly dated U.S. Postal Service postmark; (2) a legible mail receipt with the date of mailing stamped by the U.S. Postal Service; (3) a dated shipping label, invoice, or receipt from a commercial carrier; or (4) any other proof of mailing acceptable to us.

If documents are sent through the U.S. Postal Service, we do not accept either of the following as proof of mailing: (1) A private metered postmark, or (2) a mail receipt that is not dated by the U.S. Postal Service.

The applicant should note that the U.S. Postal Service does not uniformly provide a dated postmark. Before relying on this method, an applicant should check with its local post office. An applicant is encouraged to use certified or at least first class mail. An institution that submits an Application for Approval to participate in Federal Student Financial Aid Programs and required supporting documents after the closing date of February 17, 2003, will not be considered for funding under the campus-based programs for award year 2003-2004.

Required Supporting Documents Delivered by Hand. An applicant may deliver supporting documents by hand to the U.S. Department of Education, Case Management and Oversight, Data Management and Analysis, Document Receipt and Control Center, 830 First Street, NE., Room 71I1, Washington, DC 20002-5402. We will accept hand-delivered documents between 8 a.m. and 4:30 p.m. (eastern time) daily, except Saturdays, Sundays, and Federal holidays. A hand-delivered application will not be accepted after 4:30 p.m. on February 17, 2003.

SUPPLEMENTARY INFORMATION: We allocate funds to eligible higher education institutions in each of the campus-based programs. We will not allocate funds under the campus-based programs for award year 2003-2004 to any currently non-participating institution unless the institution files its Application for Approval to Participate in Federal Student Financial Aid Programs and required supporting documents by the closing date. If the institution submits its Application for Approval to Participate in Federal Student Financial Aid Programs or other required supporting documents after the February 17, 2003, closing date, we will use this application in determining the institution's eligibility to participate in the campus-based programs beginning with the 2004-2005 award year. For purposes of this notice, ineligible institutions include only: (1) An institution that has not been designated as an eligible institution by the Department, but has previously filed a FISAP; or (2) An additional location of an eligible institution that is currently not included in the Department's eligibility certification for that eligible institution, but has been included in the institution's 2003-2004 FISAP.

Applicable Regulations: The following regulations apply to the campus-based programs: (1) Student Assistance General Provisions, 34 CFR part 668. (2) General Provisions for the Federal Perkins Loan Program, Federal Work-Study Program, and Federal Supplemental Educational Opportunity Grant Program, 34 CFR part 673. (3) Federal Perkins Loan Program, 34 CFR part 674. (4) Federal Work-Study Program, 34 CFR part 675. (5) Federal Supplemental Opportunity Grant Program, 34 CFR part 676. (6) Institutional Eligibility Under the Higher Education Act of 1965, as amended, 34 CFR part 600. (7) New Restrictions on Lobbying, 34 CFR part 82. (8) Government wide Debarment and Suspension (Nonprocurement) and Government wide Requirements for Drug-Free Workplace (Grants), 34 CFR part 85. (9) Drug-Free Schools and Campuses, 34 CFR part 86.

FOR FURTHER INFORMATION CONTACT: For information concerning designation of eligibility, contact the appropriate ED Case Management and Oversight (CMO) case management team by telephone, fax, or the Internet. The case management teams are listed with telephone and fax numbers and Internet addresses in the Application for Approval to Participate in Federal Student Financial Aid Programs on pages 5, 6, and 7 of the Introduction. For technical assistance concerning the FISAP or other operational procedures of the campus-based programs, contact: Campus-Based Operations, Call Center, Telephone: (877) 801-7168, fax: (703) 761-0220.

If you use a telecommunications device for the deaf (TDD) you may call the Federal Information Relay Service (FIRS) at 1-800-877-8339. Individuals with disabilities may obtain this document in an alternative format (e.g., Braille, large print, audiotape, or computer diskette) on Request by contacting Center at (202) 260-9895 between 8:30 a.m. and 4:30 p.m., eastern time, Monday through Friday.

Electronic Access to This Document

You may view this document, as well as all other Department of Education documents published in the Federal Register, in text or Adobe Portable Document Format (PDF) on the Internet at the following site: www.ed.gov/legislation/FedRegister.

To use PDF you must have the Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1087aa et seq.; 42 U.S.C. 2751 et seq.; and 20 U.S.C. 1070b et seq.

Dated: January 14, 2003.
Theresa S. Shaw,
Chief Operating Officer, Federal Student Aid.

[FR Doc. 03-1162 Filed 1-16-03; 8:45 am]

BILLING CODE 4000-01-P